DEPARTMENT OF ENERGY

Privacy Act of 1974; Notice To Amend an Existing System of Records

AGENCY: U.S. Department of Energy.

ACTION: Notice.

SUMMARY: As required by the Privacy Act of 1974, 5 U.S.C. 552a, and the Office of Management and Budget (OMB) Circular A-130, the Department of Energy (DOE) is publishing notice of a proposed amendment to an existing system of records. DOE proposes to amend the system of records DOE-43 “Personnel Security Files.” This notice will create a new routine use to permit the disclosure of certain information to federal agencies for studies and analyses in support of evaluating and improving the effectiveness and efficiency of the agencies' investigative and adjudicative methodologies.

DATES: The proposed amendment to this existing system of records will become effective without further notice on December 12, 2011 unless DOE receives adverse comments and determines that this amendment should not become effective on that date. Comments regarding this amendment must be received on or before November 28, 2011.

ADDRESSES: Written comments should be directed to Mr. James L. Packett, Field Assistance Program Manager, Office of Departmental Personnel Security (HS-53), Office of Health, Safety and Security, U.S. Department of Energy, 1000 Independence Ave., SW., Washington, DC 20585.

FOR FURTHER INFORMATION CONTACT: Mr. James L. Packett, Field Assistance Program Manager, Office of Departmental Personnel Security (HS-53), Office of Health, Safety and Security, U.S. Department of Energy, 1000 Independence Ave., SW., Washington, DC 20585, (202) 586-3249 or Isiah Smith, Deputy Assistant General Counsel for Administrative Litigation and Information Law (GC-77), U.S. Department of Energy, 1000 Independence Avenue SW., Washington, DC 20585, (202) 586-1522.

SUPPLEMENTARY INFORMATION: This notice proposes one amendment to DOE-43 Personnel Security Files. This amendment creates a new Routine Use # 9, which will permit DOE to disclose to the Department of Defense (DOD) and other Federal agencies certain Privacy Act information contained in an employee's personnel security file (PSF). DOE will analyze the information in the PSFs and use the results to decide whether to adopt DOD's Case Adjudication Tracking System (CATS).

The CATS is an electronic adjudicative case management and tracking system developed jointly by the U.S. Army Central Clearance Facility (CCF) and the Department of Defense Business Transformation Agency (BTA). Sharing the aforementioned files with DOD would permit the DOE to evaluate whether the CATS provides accurate analyses. If so, it may be more efficient to replace DOE's manual system for evaluating the information the Department gathers during Personnel Security Investigations (PSIs). Because the CATS analyses are potentially more efficient in analyzing data, the DOE may adopt the electronic adjudication system for personnel security investigations for all future PSF analyses.

DOE is submitting the report required by OMB Circular A-130 concurrently with the publication of this notice. The text of this notice contains information required by the Privacy Act, 5 U.S.C. 552a(e)(4).

Issued in Washington, DC, on September 30, 2011.
William A. Eckroade,
Principal Deputy Chief for Mission Support Operations, Office of Health, Safety and Security.

DOE-43

SYSTEM NAME:

Personnel Security Files.

SECURITY CLASSIFICATION:

Unclassified.

SYSTEM LOCATION(S):

U.S. Department of Energy, Headquarters, 1000 Independence Avenue SW., Washington, DC 20585. U.S. Department of Energy, NNSA Service Center Albuquerque, P.O. Box 5400, Albuquerque, NM 87185-5400. U.S. Department of Energy, NNSA Naval Reactors Field Office, Pittsburgh Naval Reactors, P.O. Box 109, West Mifflin, PA 15122-0109. U.S. Department of Energy, NNSA Naval Reactors Field Office, Schenectady Naval Reactors, P.O. Box 1069, Schenectady, NY 12301. U.S. Department of Energy, Office of Science, Chicago Office, 9800 South Cass Avenue, Argonne, IL 60439. U.S. Department of Energy, Idaho Operations Office, 1955 Fremont Avenue, Idaho Falls, ID 83415. U.S. Department of Energy, NNSA Nevada Site Office, P.O. Box 98518, Las Vegas, NV 89193-8518. U.S. Department of Energy, Office of Science, Oak Ridge Office, P.O. Box 2001, Oak Ridge, TN 37831. U.S. Department of Energy, Richland Operations Office, P.O. Box 550, Richland, WA 99352. U.S. Department of Energy, Savannah River Operations Office, P.O. Box A, Aiken, SC 29801.

CATEGORIES OF INDIVIDUALS COVERED BY THE SYSTEM:

Applicants for DOE including National Nuclear Security Administration (NNSA) employment; DOE employees including assignees and detailees, agents and consultants with the DOE, DOE contractors and subcontractors, and DOE access permittees processed for DOE access authorizations for access to classified matter or special nuclear materials; other Federal agency contractor and subcontractor applicants for employment, and their employees, detailees, agents, and consultants processed for DOE access authorizations; and other individuals processed for DOE access authorizations as determined by the Secretary.

CATEGORIES OF RECORDS IN THE SYSTEM:

Name, date and place of birth, social security number, citizenship status, grade, organization, employer(s), initial investigation and reinvestigation history; and access authorization history; the formal request(s) and justification(s) for access authorization processing; security forms, fingerprint cards, and acknowledgments completed by the individual for both the initial investigation and reinvestigation; results of pre-employment checks (if required); request(s) and approval(s) for issuance of a security badge(s); report of investigation provided by an agency which has previously conducted an investigation of the individual for employment or security clearance purposes; approvals for classified visits; photographs; security infraction reports; security termination statement(s), foreign travel document; letters of interrogatory, personnel security interview transcripts or summaries, and/or audio tapes of the interviews, and evaluations of the interviews; reports of hospitalization or treatment for a mental condition or substance abuse, including information provided by an Employee Assistance Program provider; reports of DOE-sponsored mental evaluations conducted by competent medical authorities; reports of security violations; public record information to include law enforcement, financial, divorce, bankruptcy, name change and other court information or reports and copies of information appearing in the media; security advisory letters; information concerning citizenship status, foreign contacts, and spouse and/or individual(s) with whom the individual resides; administrative review processing data; justifications for participation in sensitive DOE activities and/or for Sensitive Compartmented Information access approval; results of required testing for participation in sensitive DOE activities; documents concerning Interim Access Authorization processing or processing under Section 145b of the Atomic Energy Act of 1954, as amended; written evaluations of reported derogatory information; credit check results; copies of correspondence to and from the individual concerning the items above and copies of inter- and intra-agency correspondence concerning the items above; and any other material relevant to the individual's DOE access authorization or special authorization eligibility or processing and, for DOE employees, suitability for Federal employment.

AUTHORITY FOR MAINTENANCE OF THE SYSTEM:

42 U.S.C. 7101 et seq.; 50 U.S.C. 2401 et seq.; 10 CFR Part 710, Subpart A; Executive Orders 10450 and 12968; 5 CFR Part 732; DOE O 474.4 Safeguards and Security Program of 8-26-05; DOE M 470.4-5, Personnel Security, of 08- 26-05 and Director of Central Intelligence Directive 6/14 of 6-20-00.

RETRIEVABILITY:

Records are retrieved by name and/or assigned DOE file number (alphanumeric code).

PURPOSE(S):

For those records described in Categories of Records in the System, such records are maintained and used by the Department as an official record of all information gathered and evaluated to determine an individual's initial and continued DOE access authorization eligibility and, if applicable, an individual's eligibility for participation in DOE sensitive activities or for access to Sensitive Compartmented Information.

ROUTINE USES OF RECORDS MAINTAINED IN THE SYSTEM, INCLUDING CATEGORIES USERS AND THE PURPOSES OF SUCH USES:

1. A record from this system may be disclosed as a routine use to competent medical authority who, under a formal agreement for payment of services with the local DOE personnel security element, conducts evaluations under Title 10, Code of Federal Regulations, Part 710, to determine whether an individual has an illness or mental condition of a nature which causes, or may cause, a significant defect in judgment or reliability, or is alcohol dependent or suffering from alcohol abuse.

2. A record from the system may be disclosed as a routine use to a federal, state, or local agency to obtain information relevant to a Departmental decision concerning the hiring or of a security clearance, the letting of a contract, or the issuance of a license, grant, or other benefit. The Department must deem such disclosure to be compatible with the purpose for which the Department collected the information.

3. A record from this system may be disclosed to a federal agency to facilitate the requesting agency's decision concerning the hiring or retention of an employee, the issuance of a security clearance, the reporting of an investigation of an employee, the letting of a contract, or the issuance of a license, grant, or other benefit, to the extent that the information is relevant and necessary to the requesting agency's decision on the matter. The Department must deem such disclosure to be compatible with the purpose for which the Department collected the information.

4. A record from the system may be disclosed as a routine use to the appropriate local, state or federal agency when records alone or in conjunction with other information, indicates a violation or potential violation of law whether civil, criminal, or regulatory in nature, and whether arising by general statute or particular program pursuant thereto.

5. A record from this system of records may be disclosed to a member of Congress submitting a request involving the constituent when the constituent has requested assistance from the member with respect to the subject matter of the record. The member of Congress must provide a copy of the constituent's request for assistance.

6. A record from this system of records may be disclosed to foreign governments or international organizations in accordance with treaties, international conventions, or executive agreements.

7. A record from the system may be disclosed as a routine use to DOE contractors in performance of their contracts, and their officers and employees who have a need for the record in the performance of their duties. Those provided information under this routine use are subject to the same limitations applicable to Department officers and employees under the Privacy Act.

8. A record from this system may be disclosed as a routine use when (1) it is suspected or confirmed that the security or confidentiality of information in the system of records has been compromised; (2) the Department has determined that as a result of the suspected or confirmed compromise there is a risk of harm to economic or property interests, identity theft or fraud, or harm to the security integrity if this system or other systems or programs (whether maintained by the Department or another agency or entity) that rely upon the compromised information; and (3) the disclosure is made to such agencies, entities, and persons who are reasonably necessary to assist in connection with the Department's efforts to respond to the suspected or confirmed compromise and prevent, minimize, or remedy such harm.

9. A record from this system may be disclosed to a federal agency for studies and analyses in support of evaluating and improving the effectiveness and efficiency of the investigative and adjudicative methodologies. The findings of any such studies or analyses shall not be released to the general public until all personal identifiers such as name, social security number, and date and place of birth have been deleted from them.

POLICIES AND PRACTICES FOR STORING, RETRIEVING, ACCESSING, RETAINING, AND DISPOSING OF RECORDS IN THE SYSTEM:

STORAGE:

A record may be stored as paper records, microfiche, and electronic media.

RETRIEVABILITY:

Records are retrieved by name and/or assigned DOE file number (alphanumeric code).

SAFEGUARDS:

Paper records are maintained in locked cabinets and desks. Electronic records are controlled through established DOE computer center procedures (personnel screening and physical security), and they are password protected. Access is limited to those whose official duties require access to the records.

RETENTION AND DISPOSAL:

Records retention and disposal authorities are contained in the National Archives and Records Administration (NARA) General Records Schedule and DOE record schedules that have been approved by NARA.

SYSTEM MANAGER(S) AND ADDRESS:

Headquarters: Director, Office of Security Operations, U.S. Department of Energy, 1000 Independence Avenue SW., Washington, DC 20585. Field Offices: The Security Officers of the “System Locations” listed above are the system managers for their respective portions of this system.

NOTIFICATION PROCEDURES:

In accordance with the DOE regulation implementing the Privacy Act, at Title 10, Code of Federal Regulations, Part 1008, a request by an individual to determine if a system of records contains information about him/her should be directed to the U.S. Department of Energy, Headquarters, Privacy Act Officer, or the Privacy Act Officer at the appropriate address identified above under “System Locations.” For records maintained by Laboratories or Field Site Offices, the request should be directed to the Privacy Act Officer for the site that has jurisdiction over the “System Location” as listed in the Correlation. The request should include the requester's complete name, time period for which records are sought, and the office location(s) where the requester believes the records are located.

RECORDS ACCESS PROCEDURES:

Same as Notification Procedures above. Records are generally kept at locations where the work is performed. In accordance with DOE's Privacy Act regulation, proper identification is required before a request is processed.

CONTESTING RECORD PROCEDURES:

Same as Notification Procedures above.

RECORD SOURCE CATEGORIES:

Documents completed and/or furnished by subject; Department of Energy; Office of Personnel Management; Federal Bureau of Investigation; Defense Security Service; medical professionals; and confidential sources.

SYSTEM EXEMPTED FROM CERTAIN PROVISIONS OF THE ACT:

This system is exempt under subsection (k)(1), (k)(2), and (k)(5) of the Privacy Act to the extent that information within the System meets the criteria of those subsections of the Act. Such information has been exempted from the provisions of subsections (c)(3), (d), and (e)(1) of the Act. See the Department's Privacy Act regulation at Title 10, Code of Federal Regulations, Part 1008.

[FR Doc. 2011-27920 Filed 10-27-11; 8:45 am]

BILLING CODE 6450-01-P